DEPARTMENT OF LABOR

Employment and Training Administration

[TA-W-65,663]

Philips Oral Healthcare; Snoqualmie, WA; Notice of Termination of Investigation

Pursuant to Section 221 of the Trade Act of 1974, as amended, an investigation was initiated on March 23, 2009 in response to a petition filed by a company official on behalf of workers of Philips Oral Healthcare, Snoqualmie, Washington.

The petitioner has requested that the petition be withdrawn. Consequently, the investigation has been terminated.

Signed at Washington, DC, this 6th day of April 2009.
Elliott S. Kushner,
Certifying Officer, Division of Trade Adjustment Assistance.

[FR Doc. E9-10591 Filed 5-6-09; 8:45 am]

BILLING CODE 4510-FN-P